DEPARTMENT OF COMMERCE

International Trade Administration

[A-533-867]

Welded Stainless Pressure Pipe From India: Preliminary Results and Partial Rescission of Antidumping Duty Administrative Review; 2022-2023

AGENCY: Enforcement and Compliance, International Trade Administration, Department of Commerce.

SUMMARY: The U.S. Department of Commerce (Commerce) preliminarily finds that Suncity Sheets Pvt., Ltd. (Suncity Sheets) made sales of welded stainless pressure pipe (WSPP) from India at less than normal value (NV) in the United States during the period of review (POR), November 1, 2022, through October 31, 2023. Additionally, Commerce is rescinding this administrative review with respect to certain companies. We invite interested parties to comment on these preliminary results.

DATES: Applicable December 13, 2024.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On November 17, 2016, Commerce published the antidumping duty (AD) order on WSPP from India in the Federal Register.¹ On November 2, 2023, Commerce published a notice of opportunity to request an administrative review of the Order.² On December 29, 2023, based on timely requests for review, in accordance with section 751(a)(1) of the Tariff Act of 1930, as amended (the Act), and 19 CFR 351.221(c)(1)(i), Commerce initiated an administrative review of the Order covering five companies.³ On February 16, 2024, we selected Seth Steelage Pvt. Ltd. (Seth Steelage) and Suncity Sheets as the mandatory respondents in this administrative review.⁴ On March 4, 2024, Seth Steelage timely withdrew its request for review.⁵ On July 22, 2024, Commerce tolled certain deadlines in this administrative proceeding by seven days.⁶ Pursuant to section 751(a)(3)(A) of the Act, on August 5, 2024, Commerce extended the deadline for the preliminary results until December 6, 2024.⁷

¹ See Welded Stainless Pressure Pipe from India: Antidumping and Countervailing Duty Orders, 81 FR 81062 (November 17, 2016) (Order).

² See Antidumping or Countervailing Duty Order, Finding, or Suspended Investigation; Opportunity to Request Administrative Review and Join Annual Inquiry Service List, 88 FR 75270 (November 2, 2023).

³ See Initiation of Antidumping and Countervailing Duty Administrative Reviews, 88 FR 90168 (December 29, 2023) (Initiation Notice).

⁴ See Memorandum, “Respondent Selection,” dated February 16, 2024, at 1.

⁵ See Seth Steelage's Letter, “Withdrawal Request for Administrative Review of Anti-Dumping Duty of Seth Steelage Private Limited,” dated March 4, 2024 (Seth Steelage's Withdrawal Letter).

⁶ See Memorandum, “Tolling of Deadlines for Antidumping and Countervailing Duty Proceedings,” dated July 22, 2024.

⁷ See Memorandum, “Extension of Deadline for the Preliminary Results of Antidumping Duty Administrative Review,” dated August 5, 2024.

For a complete description of the events that followed the initiation of the review, see the Preliminary Decision Memorandum.⁸ A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Administrative Review of the Antidumping Duty Order on Welded Stainless Pressure Pipe from India; 2022-2023,” dated concurrently with, and hereby adopted by, this notice (Preliminary Decision Memorandum).

Scope of the Order

The merchandise covered by the scope of the Order is WSPP from India. For a complete description of the scope of the Order, see the Preliminary Decision Memorandum.

Methodology

Commerce is conducting this review in accordance with section 751(a)(2) of the Act. Export price is calculated in accordance with section 772 of the Act. Normal value is calculated in accordance with section 773 of the Act. For a full description of the methodology underlying these preliminary results, see the Preliminary Decision Memorandum.

Rescission of Administrative Review, In Part

Pursuant to 19 CFR 351.213(d)(1), Commerce will rescind an administrative review, in whole or in part, if the parties that requested a review withdraw the request within 90 days of the date of publication of the notice of initiation. Seth Steelage, Ratnamani Metals & Tubes Ltd. (Ratnamani), and Prakash Steelage Ltd (PSL) timely withdrew the requests for review for each company.⁹ No other parties requested an administrative review of Seth Steelage, Ratnamani, and PSL. Therefore, in accordance with 19 CFR 351.213(d)(1), Commerce is rescinding this administrative review with respect to Seth Steelage, Ratnamani, and PSL.

⁹ See Ratnamani's Letter, “Withdrawal Request for Administrative Review of Antidumping Duty of Ratnamani Metals & Tubes Ltd.,” dated March 1, 2024; see also PSL's Letter, “Withdrawal Request for Administrative Review of Anti-Dumping Duty of Prakash Steelage Ltd,” dated March 4, 2024, and Seth Steelage's Withdrawal Letter.

Remaining Firms Subject to the Review

Pursuant to the above-referenced rescission, two firms listed in the Initiation Notice remain under review: Suncity Sheets and Suncity Metals and Tubes Private Limited (Suncity Metals). In Suncity Sheet's initial request for review, it identified that “Suncity {Sheets Pvt., Ltd.} exported and entered into the U.S. subject merchandise in the POR . . . since Suncity {Sheets Pvt., Ltd.} exported the subject merchandise, it changed its name from Suncity Sheets Pvt., Ltd., to Suncity Metals and Tubes Private Limited. Therefore, it is requesting a review of both companies.” ¹⁰ This fact pattern is confirmed by the U.S. Customs and Border Protection (CBP) entry data released to the record for the purposes of respondent selection, which identifies Suncity Sheets as the exporter of entries during the POR and Suncity Metals with no attributable entries in the period.¹¹ As Suncity Sheets was selected as the mandatory respondent for individual review and reflects the sole firm with entries during the period not otherwise rescinded upon, these preliminary results apply only Suncity Sheets.

¹⁰ See Suncity Sheet's Letter, “Request for Administrative Review of Suncity Metals and Tubes Private Limited and/or Suncity Sheets Pvt., Ltd.,” dated November 30, 2023.

¹¹ See Memorandum, “Release of U.S. Customs and Border Protection Enny Data,” dated January 4, 2024.

Pursuant to section 751(b)(1) of the Act and 19 CFR 351.216(d), when Commerce receives information concerning, or a request from an interested party for a review of, an order which shows changed circumstances sufficient to warrant a review of such order after publishing notice of the review in the Federal Register, Commerce shall conduct a review of the determination based on those changed circumstances. Commerce has used changed circumstance reviews (CCRs) to consider the applicability of cash deposit rates after there have been changes in the name or the structure of a respondent, such as a merger or spinoff (successor-in-interest, or successorship, determinations). Commerce has also made successor-in-interest determinations in the context of administrative reviews and investigations.¹²

¹² See, e.g., Certain Frozen Warmwater Shrimp from the People's Republic of China: Final Results of Antidumping Duty Administrative Review and Final Determination of No Shipments; 2018-2019, 85 FR 83891 (December 23, 2020), and accompanying Issues and Decision Memorandum at Comment 3.

Based on Suncity Sheets's identification of Suncity Metals as the successor to Suncity Sheets, Commerce finds it appropriate to conduct a successor-in-interest analysis to determine the status of Suncity Metals in this review. However, because the record currently lacks sufficient information regarding the name change identified to allow for a complete analysis at present, we hereby notify parties of our intent to seek more information about the name change from Suncity Sheets to Suncity Metals in the post-preliminary stage, with the intent to conduct a successor in interest determination for purposes of the final results of administrative review.

Preliminary Results of Review

We preliminarily determine the following estimated weighted-average dumping margin exists for the period November 1, 2022, through October 31, 2023:

Exporter/producer | Weighted- average dumping margin (percent)
Suncity Sheets Pvt., Ltd | 56.39

Disclosure and Public Comment

We intend to disclose the calculations and analysis performed for these preliminary results to interested parties within five days of any public announcement or, if there is no public announcement, within five days after the date of publication of this notice in the Federal Register in accordance with 19 CFR 351.224(b).

Commerce will announce the briefing schedule to interested parties at a later date. Interested parties may submit case briefs on the deadline that Commerce will announce.¹³ Rebuttal briefs, limited to issues raised in the case briefs, may be filed not later than five days after the date for filing case briefs.¹⁴ Interested parties who submit case briefs or rebuttal briefs in this proceeding must submit: (1) a table of contents listing each issue; and (2) a table of authorities.¹⁵

¹³ See 19 CFR 351.309 (c)(1)(ii) and (d)(2).

¹⁴ See 19 CFR 351.309(d)(1); see also Administrative Protective Order, Service, and Other Procedures in Antidumping and Countervailing Duty Proceedings, 88 FR 67069, 67077 (September 29, 2023) (APO and Service Final Rule).

¹⁵ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any participant is a foreign natioanl; and (3) a list of issues to be discussed. Issues raised in the hearing will be limited to those raised in the respective case briefs. An electronically filed hearing request must be received successfully in its entirety by Commerce's electronic records system, ACCESS, by 5:00 p.m. Eastern Time within 30 days after the date of publication of this notice.

Assessment Rates

Upon completion of this administrative review, pursuant to section 751(a)(2)(A) of the Act, Commerce shall determine, and CBP shall assess, antidumping duties on all appropriate entries of subject merchandise covered by this review.¹⁸

¹⁸ See 19 CFR 351.212(b)(1).

For Suncity Sheets, whose weighted-average dumping margin is not zero or de minimis (i.e., less than 0.50 percent), we will calculate importer-specific ad valorem AD assessment rates based on the ratio of the total amount of dumping calculated for the importer's examined sales to the total entered value of those same sales in accordance with 19 CFR 351.212(b)(1). If the respondent has not reported entered values, we will calculate a per-unit assessment rate for each importer by dividing the total amount of dumping calculated for the examined sales made to that importer by the total quantity associated with those sales. To determine whether an importer-specific, per-unit assessment rate is de minimis, in accordance with 19 CFR 351.106(c)(2), we also will calculate an importer-specific ad valorem ratio based on estimated entered values. If Suncity Sheet's final weighted-average dumping margin is zero or de minimis, or an importer-specific ad valorem assessment rate is zero or de minimis, we intend to instruct CBP to liquidate appropriate entries without regard to antidumping duties.¹⁹

¹⁹ See 19 CFR 351.106(c)(2); see also Antidumping Proceeding: Calculation of the Weighted-Average Dumping Margin and Assessment Rate in Certain Antidumping Proceedings; Final Modification, 77 FR 8101, 8103 (February 14, 2012).

In accordance with Commerce's “automatic assessment” practice, for entries of subject merchandise during the POR produced by Suncity Sheets for which it did not know that the merchandise was destined for the United States, we will instruct CBP to liquidate such entries at the all-others rate in the original less-than-fair-value (LTFV) investigation (i.e., 8.35 percent) if there is no rate for the intermediate company(ies) involved in the transaction.²⁰

²⁰ See Order, 81 FR at 81063; see also Antidumping and Countervailing Duty Proceedings: Assessment of Antidumping Duties, 68 FR 23954 (May 6, 2003).

For the companies listed above for which this review is being rescinded, antidumping duties shall be assessed on entries at rates equal to the cash deposit of estimated antidumping duties required at the time of entry, or withdrawal from warehouse, for consumption, in accordance with 19 CFR 351.212(c)(1)(i). Commerce intends to issue assessment instructions to CBP for the rescinded companies no earlier than 35 days after the date of publication of this notice in the Federal Register.

The final results of this administrative review shall be the basis for the assessment of antidumping duties on entries of merchandise covered by the final results of this review and for future deposits of estimated duties, where applicable.²¹

²¹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for each specific company listed above will be equal to the weighted-average dumping margin established in the final results of this administrative review, except if the rate is less than 0.50 percent and, therefore, de minimis within the meaning of 19 CFR 351.106(c)(1), in which case the cash deposit rates will be zero; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate established in the LTFV investigation (i.e., 8.35 percent).²² These cash deposit requirements, when imposed, shall remain in effect until further notice.

²² See Order, 81 FR at 81063.

Final Results of Review

Unless otherwise extended, we intend to issue the final results of this administrative review, which will include the results of our analysis of all issues raised in the case and rebuttal briefs, within 120 days of publication of these preliminary results in the Federal Register, pursuant to section 751(a)(3)(A) of the Act and 19 CFR 351.213(h)(1).²³

²³ See section 751(a)(3)(A) of the Act; and 19 CFR 351.213(h).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties, and/or an increase in the amount of antidumping duties by the amount of the countervailing duties.

Notification to Interested Parties

We are issuing and publishing these preliminary results of review in accordance with sections 751(a)(1) and 777(i)(1) of the Act, 19 CFR 351.213(h)(2), and 19 CFR 351.221(b)(4).

Dated: December 6, 2024.
Abdelali Elouaradia,
Deputy Assistant Secretary for Enforcement and Compliance.

Appendix

List of Topics Discussed in the Preliminary Decision Memorandum

I. Summary

II. Background

III. Scope of the Order

IV. Partial Rescission of Review

V. Discussion of the Methodology

VI. Currency Conversion

VII. Recommendation

[FR Doc. 2024-29327 Filed 12-12-24; 8:45 am]

BILLING CODE 3510-DS-P